DEPARTMENT OF THE INTERIOR

Bureau of Land Management

[MNES-058247]

Notice of Application for Withdrawal and Notification of Public Meeting; Minnesota

AGENCY: Bureau of Land Management, Interior.

ACTION: Notice.

SUMMARY: The United States Forest Service (USFS) has filed an application with the Bureau of Land Management (BLM) requesting that the Secretary of the Interior withdraw, for a 20-year term, approximately 234,328 acres of National Forest System lands within the Rainy River Watershed on the Superior National Forest from disposition under the United States mineral and geothermal leasing laws, subject to valid existing rights. Publication of this notice temporarily segregates the lands for up to 2 years from the United States mineral and geothermal leasing laws while the withdrawal application is being processed.

DATES: Comments regarding this withdrawal proposal must be received by April 19, 2017. The BLM and the USFS will hold a public meeting in connection with the proposed withdrawal on March 16, 2017, from 5 p.m. to 7:30 p.m. Central Time (CT) at the Duluth Entertainment and Convention Center, 350 Harbor Drive, Duluth, MN 55802. During this 90-day comment period, the BLM and USFS will hold additional meetings in other areas of the State, notices of which will be provided in local newspapers or on agency Web sites. The USFS' 90-day scoping period associated with preparing an environmental impact statement (EIS) was announced on January 13, 2017 in the Federal Register. The EIS will analyze the impacts of the proposed withdrawal and an amendment to the Superior National Forest Land and Resource Management Plan. Additional opportunities for public comment will be provided during the preparation of that EIS.

ADDRESSES: Comments regarding this withdrawal proposal should be sent to the Deputy State Director of Geospatial Services, Bureau of Land Management, Eastern States Office, 20 M Street SE., Suite 950, Washington, DC 20003; or by facsimile at 202-912-7710. Comments sent by email will not be accepted. The March 16, 2017, BLM and USFS public meeting location is the Duluth Entertainment and Convention Center, 350 Harbor Drive, Duluth, MN 55802.

FOR FURTHER INFORMATION CONTACT: Dominica VanKoten, BLM Eastern States Office, 202-912-7756 during regular business hours, 8 a.m. to 4:30 p.m. Monday through Friday, except holidays. Persons who use a telecommunications device for the deaf (TDD) may call the Federal Relay Service at 1-800-877-8339 to contact the above individual. The Service is available 24 hours a day, 7 days a week, to leave a message or question. You will receive a reply during normal business hours.

SUPPLEMENTARY INFORMATION: The applicant is the USFS. The application requests the Secretary of the Interior to withdraw National Forest System lands in the Superior National Forest from disposition under the United States mineral and geothermal leasing laws for a period of 20 years to protect and preserve the natural resources and waters located within the Rainy River Watershed that flow into the Boundary Waters Canoe Area Wilderness (BWCAW) and the Boundary Waters Canoe Area Wilderness Mining Protection Area (MPA) in northeastern Minnesota. The lands will remain open to other forms of use and disposition as may be allowed by law on National Forest System lands, including the disposition of mineral materials.

All the National Forest System Lands identified in the townships below and any lands acquired by the Federal government within the exterior boundaries described below are included in the withdrawal application. This area excludes the BWCAW and the Boundary Waters Canoe Area Wilderness MPA, as depicted on the map entitled Appendix B: Superior National Forest, dated December 5, 2016. This map is available from the BLM Eastern States Office at the address listed above, and from the USFS Superior National Forest office, 8901 Grand Ave. Pl, Duluth, Minnesota, 55808.

National Forest System Lands

Superior National Forest

4th Principal Meridian, Minnesota

Tps. 61 and 62 N., Rs. 5 W.

Tps. 60 to 62 N., Rs. 6 W.

Tps. 59 and 61 N., Rs. 7 W.

Tps. 59 to 61 N., Rs. 8 W.

Tps. 58 to 61 N., Rs. 9 W.

Tps. 57 to 62 N., Rs. 10 W.

Tps. 57 to 63 N., Rs. 11 W.

Tp. 59 N., R. 12 W.

Tps. 61 to 63 N., Rs. 12 W.

Tps. 61 to 63 N., Rs. 13 W.

Tp. 63 N., R. 15 W.

Tp. 63 N., R. 16 W.

Tps. 65 to 67 N., Rs. 16 W.

Tp. 64 N., R. 17 W.

The areas described contain approximately 234,328 acres of National Forest System lands in Cook, Lake, and Saint Louis Counties, Minnesota, located adjacent to the BWCAW and the MPA.

Non-Federal lands within the area proposed for withdrawal total approximately 190,321 acres in Cook, Lake and Saint Louis Counties. As non-Federal lands, these parcels would not be affected by the temporary segregation or proposed withdrawal unless they are subsequently acquired by the Federal Government. The temporary segregation and proposed withdrawal are subject to valid existing rights, which would be unaffected by these actions.

As stated in the application, the purpose of the requested withdrawal is to protect and preserve the natural resources and waters within the Rainy River Watershed that flow into the BWCAW and the MPA from the effects of mining and mineral exploration. Congress designated the BWCAW and established the MPA to protect and preserve the ecological richness of the lakes, waterways, and forested wilderness along the Canadian border. The protection of the Rainy River Watershed would extend the preservation of the BWCAW and MPA as well as Voyageurs National Park and Canada's Quetico Provincial Park, which are all interconnected through the unique hydrology of this region.

The application further states that the use of a right-of-way, interagency agreement, or cooperative agreement would not adequately constrain mineral and geothermal leasing to provide adequate protection throughout this pristine natural area.

According to the application, no alternative sites are feasible because the lands subject to the withdrawal application are the lands for which protection is sought from the impacts of exploration and development under the United States mineral and geothermal leasing laws. No water will be needed to fulfill the purpose of the requested withdrawal.

The USFS will serve as the lead agency for the EIS analyzing the impacts of the proposed withdrawal. The USFS will designate the BLM as a cooperating agency. The BLM will independently evaluate and review the draft and final EISs and any other documents needed for the Secretary of the Interior to make a decision on the proposed withdrawal.

Records related to the application may be examined by contacting the individual listed in the FOR FURTHER INFORMATION CONTACT section above.

For a period until April 19, 2017, all persons who wish to submit comments, suggestions, or objections in connection with the withdrawal application may present their views in writing to the BLM Deputy State Director of Geospatial Services at the BLM Eastern States Office address noted in the ADDRESSES section above. Comments, including the names and street addresses of respondents, will be available for public review at that address during regular business hours.

Before including your address, phone number, email address, or other personal identifying information in your comment, you should be aware that your entire comment—including your personal identifying information—may be made publicly available at any time. While you can ask us to withhold your personal identifying information from public review, we cannot guarantee that we will be able to do so.

Notice is hereby given that a public meeting in connection with the application for withdrawal will be held at Duluth Entertainment and Convention Center, 350 Harbor Drive, Duluth, Minnesota 55802 on March 16, 2017, from 5 p.m. to 7:30 p.m. CT. The USFS will publish a notice of the time and place in a local newspaper at least 30 days before the scheduled date of the meeting. During this 90-day comment period, the BLM and USFS will hold additional meetings in other areas of the State, notices of which will be provided in local newspapers or on agency Web sites.

For a period until January 21, 2017, subject to valid existing rights, the National Forest System lands described in this notice will be temporarily segregated from the United States mineral and geothermal leasing laws, unless the application is denied or canceled or the withdrawal is approved prior to that date. All other activities currently consistent with the Superior National Forest Land and Resource Management Plan could continue, including public recreation, mineral materials disposition and other activities compatible with preservation of the character of the area, subject to USFS discretionary approval, during the segregation period.

The application will be processed in accordance with the regulations set forth in 43 CFR 2300.

Karen E. Mouritsen,
State Director, Eastern States Office.

[FR Doc. 2017-01202 Filed 1-18-17; 8:45 am]

BILLING CODE 3411-15-P